NATIONAL SCIENCE FOUNDATION

Advisory Committee for Environmental Research and Education; Notice of Meeting

In accordance with the Federal Advisory Committee Act (Pub. L. 92-463, as amended), the National Science Foundation announces the following meeting:

Name: Advisory Committee for Environmental Research and Education (#9487).

Dates: March 11 & March 12, 2015; 8:00 a.m.-5:00 p.m.

Place: Stafford I, Room 1235, National Science Foundation, 4201Wilson Blvd., Arlington, Virginia 22230.

Type of Meeting: Open.

Contact Person: Linda Deegan, National Science Foundation, Suite 655, 4201 Wilson Blvd., Arlington, Virginia 22230. Email: ldeegan@nsf.gov.

Minutes: May be obtained from the contact person listed above.

Purpose of Meeting: To provide advice, recommendations, and oversight concerning support for environmental research and education.

Agenda

Wednesday, March 11, 2015

Approval of minutes from past meetings

• Updates on recent NSF and other agency environmental activities.

• Discuss and refine draft of the Decadal Vision for Environmental Research and Education document.

• Meet with NSF Assistant Directors.

Thursday, March 12, 2015

Discuss and refine draft of the Decadal Vision for Environmental Research and Education document (Continued)

• Meet with the NSF Director.

• AC Business—Set date for next meeting.

Dated: January 22, 2015.
Suzanne Plimpton,
Acting, Committee Management Officer.

[FR Doc. 2015-01419 Filed 1-26-15; 8:45 am]

BILLING CODE 7555-01-P